DEPARTMENT OF COMMERCE

International Trade Administration

Subsea and Onshore Technology Trade Mission to Brazil; October 19-21, 2016

AGENCY: International Trade Administration, Department of Commerce.

ACTION: Notice.

SUMMARY:

The United States Department of Commerce International Trade Administration's (ITA) U.S. and Foreign Commercial Service (USFCS) in Rio de Janeiro, Brazil, are organizing a Subsea & Onshore Technology Trade Mission to Rio de Janeiro, Brazil October 19-21, 2016.

The Subsea & Onshore Technology Trade Mission offers a timely and cost-effective means for U.S. firms to engage with key stakeholders and to enter the promising Brazilian oil and gas market for subsea and onshore equipment, technology, and services. The delegation will be comprised of at least 10 U.S. firms and a maximum of 15 U.S. firms representing a cross-section of U.S. oil and gas segments that have developed products and services for subsea (deep water) and onshore, oil and gas exploration and production. The mission will also be open to representatives of U.S. trade associations in the targeted industries with a commercial interest in Brazil.

Schedule
Tuesday, October 18, 2016 | Delegation arrives in Rio.
| Welcome lunch at hotel restaurant.
| Afternoon free.
Wednesday, October 19, 2016 | Country Team Briefing at U.S. Consulate General Rio de Janeiro by Brazil Mission team (FCS, ECON and CG).
| Commercial Briefing/Oil and Gas Opportunities in Brazil by Brazilian companies and key industry players.
| Welcome cocktail Reception.
Thursday, October 20, 2016 | U.S. companies individual matchmaking appointments at the Brazilian company's offices.
Friday, October 21, 2016 | One group meeting with Petrobras.
| One oil and gas site visit (afternoon)—TBD.
| Evening Departure.

Web site: Please visit our official mission Web site for more information: http://www.export.gov/trademissions/.

Participation Requirements

Recruitment for the mission will begin immediately and conclude no later than July 24, 2016. All parties interested in participating in the trade mission must complete and submit an application package for consideration by the Department of Commerce. The U.S. Department of Commerce will review applications and make selection decisions on a comparative basis starting July 25, 2016 until at least 10 participants are selected with a maximum number of 15 participants. Applications received after July 25, 2016, will be considered only if space and scheduling constraints permit.

Fees and Expenses

After a company or organization has been selected to participate in the mission, a payment to the Department of Commerce in the form of a participation fee is required. The participation fee for the Trade Mission will be $2,300 for a small or medium-sized firm (SME) or industry organization, and $2,500 for large firms. The fee for each additional firm representative (large firm or SME/trade organization) is USD $750.00.

Application

All interested firms and associations may register via the following link: http://emenuapps.ita.doc.gov/ePublic/TM/6R0R.

Exclusions

The mission fee does not include any personal travel expenses such as lodging, most meals, local ground transportation (except for transportation to and from meetings, and airport transfers during the mission), and air transportation. Participants will, however, be able to take advantage of U.S. Government rates for hotel rooms. Business or entry visas may be required to participate in the mission. Applying for and obtaining such visas will be the responsibility of the mission participant. Government fees and processing expenses to obtain such visas are not included in the participation fee. However, the Department of Commerce will provide instructions to each participant on the procedures required to obtain necessary business visas.

Timeline for Recruitment and Applications

Mission recruitment will be conducted in an open and public manner, including publication in the Federal Register, posting on the Commerce Department trade mission calendar (http://export.gov/trademissions) and other Internet Web sites, press releases to general and trade media, direct mail, notices by industry trade associations and other multiplier groups, and publicity at industry meetings, symposia, conferences, and trade shows. Recruitment for the mission will begin immediately and conclude no later than July 25, 2016. Applications received after July 25, 2016 will be considered only if space and scheduling constraints permit.

Conditions for Participation

Targeted mission participants are U.S. companies or organizations providing oil and gas equipment, technology, or services. The participants' products or services must be either produced in the United States or, if not, marketed under the name of a U.S. firm and have at least 51 percent U.S. content of the value of the finished product/service.

The following criteria will be evaluated in selecting participants:

• An applicant must submit a completed and signed mission application and supplemental application materials, including adequate information on the company's products and/or services, primary market objectives, and goals for participation. If the Department of Commerce receives an incomplete application, the Department may reject the application, request additional information, or take the lack of information into account when evaluating the applications.

• Each applicant must also certify that the products and services it seeks to export through the mission are either produced in the United States, or, if not, marketed under the name of a U.S. firm and have at least 51 percent U.S. content of the value of the finished product or service.

• Suitability of the firm or service provider's products or services to the market.

• Firm's or service provider's (or in the case of a trade association/organization, represented firm or service provider's) potential for business in the markets, including likelihood of exports resulting from the mission.

• Consistency of the firm's or service provider's (or in the case of a trade association/organization, represented firm or service provider's) goals and objectives with the stated scope of the mission.

Diversity of company or organization size and location may also be considered during the review process.

Referrals from political organizations and any documents containing references to partisan political activities (including political contributions) will be removed from an applicant's submission and not considered during the selection process.

Referrals from political organizations and any documents containing references to partisan political activities (including political contributions) will be removed from an applicant's submission and not considered during the selection process.

FOR FURTHER INFORMATION CONTACT: Name: Julius Svoboda, Title: Senior Oil & Gas Trade Specialist, U.S. Department of Commerce, Address: 1401 Constitution Ave., Tel: +1-202-482-5430, Email: Julius.Svoboda@trade.gov.

Mr. Mark Wells, International Trade Specialist, Trade Missions, U.S. Department of Commerce, Washington, DC 20230, Tel: (202) 482-0904, Mark.Wells@trade.gov.

Frank Spector,
Acting Director, Trade Missions Program.

[FR Doc. 2015-31140 Filed 12-9-15; 8:45 am]

BILLING CODE 3510-DR-P